DEPARTMENT OF HEALTH AND HUMAN SERVICES

Nominations to the Presidential Advisory Council on HIV/AIDS; Solicitation of Nominations for Appointment to Presidential Advisory Council on HIV/AIDS (PACHA)

AGENCY: Office of the Assistant Secretary for Health, Office of the Secretary, U. S. Department of Health and Human Services.

ACTION: Notice.

SUMMARY: The Office of the Assistant Secretary for Health (OASH) is seeking nominations for membership on the Presidential Advisory Council on HIV/AIDS (referred to as PACHA and/or the Council). The PACHA is a federal advisory committee within the U.S. Department of Health and Human Services (HHS). Management support for the activities of this Council is the responsibility of the OASH. The qualified individuals will be nominated to the Secretary of Health and Human Services for consideration for appointment as members of the PACHA. Members of the Council, including the Chair and or Co-Chairs, are appointed by the Secretary. Members are invited to serve on the Council for up to four-year terms. The Council was established to provide advice, information, and recommendations to the Secretary regarding programs and policies intended to promote effective prevention and care of HIV infection and AIDS. The functions of the Council are solely advisory in nature.

DATES: Nominations for membership on the PACHA must be received no later than 8:00 p.m. (ET) Monday, January 3, 2022. Packages received after this time will not be considered for the current membership cycle.

ADDRESSES: All nominations should be electronically mailed in one email to PACHA@hhs.gov.

FOR FURTHER INFORMATION CONTACT: Ms. Caroline Talev, Management Analyst and Alternate Designated Federal Officer to PACHA; email Caroline.Talev@hhs.gov and include in the subject line “PACHA Application.” Additional information about PACHA can be obtained by accessing the Council's website at About PACHA | HIV.gov.

SUPPLEMENTARY INFORMATION: PACHA was established by Executive Order 12963, dated June 14, 1995 as amended by Executive Order 13009, dated June 14, 1996. The Council was established to provide advice, information, and recommendations to the Secretary regarding programs and policies intended to promote effective prevention of HIV disease and AIDS. The functions of the Council are solely advisory in nature.

The Council consists of not more than 25 members. Council members are selected from prominent community leaders with particular expertise in, or knowledge of, matters concerning HIV and AIDS, public health, global health, population health, faith, philanthropy, marketing or business, as well as other national leaders held in high esteem from other sectors of society. PACHA selections will also include persons with lived HIV experience and racial/ethnic and sexual and gender minority persons disproportionately affected by HIV. Council members are appointed by the Secretary or designee, in consultation with the White House Office on National AIDS Policy. Pursuant to advance written agreement, Council members shall receive no stipend for the advisory service they render as members of PACHA. However, as authorized by law and in accordance with Federal travel regulations, PACHA members may receive per diem and reimbursement for travel expenses incurred in relation to performing duties for the Council.

This announcement is to solicit nominations of qualified candidates to fill current and upcoming vacancies on the PACHA.

Nominations

Nominations are being sought for individuals who have expertise and qualifications necessary to contribute to the accomplishments of PACHA's objectives. Federal employees will not be considered for membership. The U.S. Department of Health and Human Services policy stipulates that committee membership be balanced in terms of points of view represented, and the committee's function. Appointments shall be made without discrimination on the basis of age, race, ethnicity, gender, sexual orientation, gender identity, HIV status, disability, and cultural, religious, or socioeconomic status. Nominees must be U.S. citizens, and cannot be full-time employees of the U.S. Government. Committee members are Special Government Employees (SGEs), requiring the filing of financial disclosure reports at the beginning and annually during their terms. Individuals who are selected for appointment will be required to provide detailed information regarding their financial interests. Note that the need for different expertise varies from year to year and a candidate who is not selected for an open position may be reconsidered for a subsequent open position. SGE nominees must be U.S. citizens, and cannot be full-time employees of the U.S. Government. Candidates should submit the following items to be considered of appointment:

• Current curriculum vitae or resume, including complete contact information (telephone numbers, mailing address, email address).

• A biographical sketch of the nominee (500 words or fewer).

• A letter of interest or personal statement from the nominee stating how their expertise would inform the work of PACHA.

• At least one letter of recommendation from person(s) not employed by the U.S. Department of Health and Human Services.

Individuals can nominate themselves for consideration of appointment to the Council. All nominations must include the required information in one email sent to PACHA.hhs.gov with the subject line, “PACHA Application.” Incomplete nomination applications will not be processed for consideration.

The Department is legally required to ensure that the membership of HHS Federal advisory committees is fairly balanced in terms of points of view represented and the functions to be performed by the advisory committee. Appointment to the Council shall be made without discrimination on the basis of age, race, ethnicity, gender, sexual orientation, disability, and cultural, religious, or socioeconomic status. The Standards of Ethical Conduct for Employees of the Executive Branch are applicable to individuals who are appointed as members of the Council.

Dated: October 5, 2021.
Caroline Talev,
Management Analyst, Office of Infectious Disease and HIV/AIDS Policy, Alternate Designated Federal Officer, Presidential Advisory Council on HIV/AIDS, Office of the Assistant Secretary for Health, Department of Health and Human Services.

[FR Doc. 2021-22950 Filed 10-20-21; 8:45 am]

BILLING CODE 4150-43-P